DEPARTMENT OF TRANSPORTATION

Office of the Secretary

Notice of Applications for Certificates of Public Convenience and Necessity and Foreign Air Carrier Permits Filed Under Subpart B (Formerly Subpart Q) During the Week Ending June 13, 2003.

The following Applications for Certificates of Public Convenience and Necessity and Foreign Air Carrier

Permits were filed under subpart b (formerly subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-15423.

Date Filed: June 13, 2003.

Due Date for Answers, Conforming Applications, or Motion to Modify Scope: July 7, 2003.

Description: Application of Alitalia-Linee Aeree Italiane-S.p.A., pursuant to 49 U.S.C. 41301, 14 CFR part 211 and subpart B, requesting an amendment to its foreign air carrier permit to engage in scheduled foreign air transportation between any point or points behind Italy, and any point or points in Italy, via any intermediate point or points, and any point or points in the United States, and beyond the United States to any point or points, with full traffic rights. Alitalia further requests, the Department amend its permit to authorize Alitalia to engage in charter foreign air transportation in accordance with, and with all the rights available to Alitalia under, the Open Skies Agreement.

Dorothy Y. Beard,
Chief, Docket Operations & Media Management, Federal Register Liaison.

[FR Doc. 03-15785 Filed 6-20-03; 8:45 am]

BILLING CODE 4910-62-P